DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 71 FR 20403, dated April 20, 2006) is amended to reflect the establishment of the Library Services Most Efficient Organization with the Division of Knowledge Management Services, National Center for Public Health Informatics.

Section C-B, Organization and Functions, is hereby amended as follows:

After the mission statement for the Division of Knowledge Management Services (CPEC), National Center for Public Health Informatics (CPE), insert the following;

Library Services Most Efficient Organization (CPEC2). (1) Provides library operations; (2) provides information, reference, and research services; (3) provides library educational and instructional services; (4) provides library knowledge management, systems, and technology support; (5) provides library marketing services and outreach; and (6) provides library administrative services.

Delete item (8) of the functional statement for the Communications, Education, and Behavioral Studies Branch (CVBDB), Division of Tuberculosis Elimination (CVBD), National Center for HIV, STD, and TB Prevention (CVB), and insert the following: (8) organizes and maintains scientific and non-scientific information resources related to TB.

Delete item (6) of the functional statement for the Education and Information Division (CCE), National Institute for Occupational Safety and Health (CC), and renumber the remaining items accordingly.

Dated: May 25, 2006.
William H. Gimson,
Chief Operating Officer, Centers for Disease Control and Prevention (CDC).

[FR Doc. 06-5079 Filed 6-2-06; 8:45 am]

BILLING CODE 4160-18-M